DEPARTMENT OF HOMELAND SECURITY

Customs and Border Protection

Agency Information Collection Activities: Proposed Collection; Comments Requested

Action: 30-day notice of information collection under review: Arrival Record, Form I-94AOT.

The Department of Homeland Security (DHS), U.S. Customs and Border Protection (CBP) has submitted the following information collection request to the Office of Management and Budget (OMB) for review and approval in accordance with the Paperwork Reduction Act of 1995. The proposed information collection is published to obtain comments from the public and affected agencies. This proposed information collection was previously published in the Federal Register at 68 FR 55408 on September 25, 2003, allowing for a 60-day public review and comment period. No comments were received by DHS.

A second notice was published in the Federal Register at 68 FR 69713 on December 15, 2003, allowing for an additional 30 days for public review and comment. The second notice incorrectly listed Immigration and Customs Enforcement (ICE) as the DHS component responsible for this information collection. The second notice should have listed CBP as the DHS component responsible for this information collection. Accordingly, the public has 30 days until January 21, 2004 to submit comments. This process is conducted in accordance with 5 CFR 1320.10. Written comments and/or suggestions regarding the items contained in this notice, especially the estimated public burden and associated response time, should be directed to the Office of Management and Budget, Office of Information and Regulatory Affairs, Attention Department of Justice Homeland Security Officer, 725-17th Street, NW., Suite 10102, Washington, DC 20503. Additionally, comments may be submitted to OMB via facsimile to (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Arrival Record.

(3) Agency form number, if any, and the applicable component of the Department of Homeland Security sponsoring the collection: Form I-94AOT, U.S. Customs and Border Protection.

(4) Affected public who will be asked or required to respond, as well as a brief abstract: Primary: Individual or Households. The information collected is captured electronically as part of a pilot program established by the legacy Immigration and Naturalization Service in cooperation with two participating carriers to streamline document handling and data processing. The information collected will be used by DHS to document an alien's arrival and departure to and from the United States and may be evidence of registration under certain provisions of the Immigration and Nationality Act.

(5) An estimate of the total number of respondents and the amount of time estimated for an average respondent to respond: 25,000 responses at 3 minutes (.05 hours) per response.

(6) An estimate of the total public burden (in hours) associated with the collection: 1,250 annual burden hours.

If you have additional comments, suggestions, or need a copy of the proposed information collection instrument with instructions, or additional information, please contact Richard A. Sloan, 202-514-3291, Director, Regulations and Forms Services Division, Department of Homeland Security, Room 4034, 425 I Street, NW., Washington, DC 20536. Additionally, comments and/or suggestions regarding the item(s) contained in this notice, especially regarding the estimated burden and associated response time may also be directed to Mr. Richard A. Sloan.

If additional information is required contact: Mr. Steve Cooper, PRA Clearance Officer, Department of Homeland Security, Office of Chief Information Officer, Regional Office Building 3, 7th and D Streets, SW., Suite 44636-26, Washington, DC 20202.

Dated: December 17, 2003.
Richard A. Sloan,
Department Clearance Officer, Department of Homeland Security.

[FR Doc. 03-31449 Filed 12-19-03; 8:45 am]

BILLING CODE 4410-10-M